DEPARTMENT OF HEALTH AND HUMAN SERVICES

Office of the Secretary

Office of the Assistant Secretary for Planning and Evaluation; Statement of Organization, Functions and Delegations of Authority

Part A (Office of the Secretary), Statement of Organization, Functions, and Delegations of Authority of the Department of Health and Human Services (HHS) is being amended at Chapter AE, Office of the Assistant Secretary for Planning and Evaluation (ASPE) as last amended at 67 FR 61341-42 dated September 30, 2002 and most recently at 73 FR 19977, dated April 16, 2010. This reorganization is to realign the functions of ASPE to reflect the current structure and areas of focus. The changes are as follows:

I. Under Section AE.20 Functions, delete Paragraph D, Office of Disability, Aging and Long-Term Care Policy (AEW), in its entirety and replace with the following:

D. The Office of Disability, Aging and Long-Term Care Policy is responsible for the development, coordination, research and evaluation of HHS policies and programs that support the independence, productivity, health and well being of children, working age adults, and older persons with disabilities. The office is also responsible for policy coordination and research to promote the economic and social well-being of older Americans. The Office coordinates its work with aging and disability-related agencies and programs throughout the government, including the Departments of Justice, Labor, Education, Transportation, Housing and Urban Development, the Social Security Administration and the Office of National Drug Control Policy.

1. The Division of Disability and Aging Policy is responsible for policy development, coordination, research and evaluation of policies and programs focusing on persons with disabilities and older Americans (Older Americans Act). Activities related to the Older Americans Act are carried out in coordination with the Office of the Assistant Secretary for Aging. This includes measuring and evaluating the impact of programs authorized by the Older Americans Act. The Division is also responsible for supporting the development and coordination of crosscutting disability and aging data and policies within the Department and other federal agencies. Areas of focus include assessing the interaction between the health, disability, and economic well-being of persons of all ages with disabilities including the prevalence of disability and disabling conditions; describing the socio-demographic characteristics of relevant populations; determining service use, income, employment, and program participation patterns; and coordinating the development of disability and aging data and policies that affect the characteristics, circumstances and needs of older Americans and disabled populations. The Division's responsibilities include long-range planning, budget and economic analysis, program analysis, review of regulations and reports on legislation, review and conduct of research and evaluation activities, and information dissemination.

2. The Division of Long-Term Care Policy is responsible for coordination, development, research and evaluation of HHS policies and programs which address the long-term care and personal assistance needs of people of all ages with functional impairments and disabilities. The Division is the focal point for policy development and analysis related to the long-term care services components of the Affordable Care Act as well as Medicare, Medicaid, and including nursing facility services, community residential services, personal assistance services, home health and rehabilitation services, and the integration of acute, post-acute and long-term care services. The Division's responsibilities include long-range planning, budget and economic analysis, program analysis, review of regulations and reports on legislation, review and conduct of research and evaluation activities, and information dissemination.

3. The Division of Behavioral Health and Intellectual Disabilities Policy is responsible for analysis, coordination, research and evaluation of policies related to individuals with severe intellectual disabilities, severe addictions and/or severe and persistent mental illness. The Division's responsibilities include long-range planning, budget and economic analysis, data development and analysis, program analysis, review of regulations and reports on legislation, review and conduct of research and evaluation activities, and information dissemination. The Division is the focal point for policy development and analysis related to financing, access/delivery, organization and quality of Intellectual Disabilities and Serious and Persistent Mental Illnesses services, including those financed by Medicaid, Medicare, SAMHSA, Administration on Developmental Disabilities and HRSA. The Division works closely with other offices in ASPE because the two vulnerable populations that are its focus are users of both human services and health services.

II. Delegations of Authority: All delegations and redelegations of authority made to officials and employees of affected organizational components will continue in them or their successors pending further redelegation, provided they are consistent with this reorganization.

Dated: March 30, 2011.
E.J. Holland, Jr.,
Assistant Secretary for Administration.

[FR Doc. 2011-8357 Filed 4-6-11; 8:45 am]

BILLING CODE 4150-04-P